DEPARTMENT OF THE INTERIOR

Bureau of Land Management

[LLORV00000.L10200000.XZ0000.LXSSH1050000.20X.HAG 20-0025]

Notice of Public Meetings for the John Day-Snake Resource Advisory Council

AGENCY: Bureau of Land Management, Interior.

ACTION: Notice of public meetings.

SUMMARY: In accordance with the Federal Land Policy and Management Act of 1976 and the Federal Advisory Committee Act of 1972, the U.S. Department of the Interior, Bureau of Land Management's (BLM), John Day-Snake Resource Advisory Council (RAC) will meet as indicated below:

DATES: The John Day-Snake RAC will meet Thursday and Friday, Feb. 20 and 21, 2020, at 1:00 p.m. Thursday and 8:00 a.m. Friday; and Thursday and Friday, Jun. 18 and 19, 2020, at 1:00 p.m. Thursday and 8:00 a.m. Friday. A public comment period will be offered at 8:05 a.m. on the second day of each meeting (Feb. 21 and Jun. 19).

ADDRESSES: The Feb. 20 and 21 meetings will be held at the Vale BLM Baker Field Office, 3100 H St., Baker City, Oregon; and the Jun. 18 and19 meetings will be held at the BLM Prineville District Office, 3050 NE 3rd St., Prineville, Oregon.

FOR FURTHER INFORMATION CONTACT: Larisa Bogardus, Public Affairs Officer, 3100 H St., Baker City, Oregon 97814; 541-219-6863; lbogardus@blm.gov. Persons who use a telecommunications device for the deaf (TDD) may call the Federal Relay Service (FRS) at 1(800) 877-8339 to contact the above individual during regular business hours. The FRS is available 24 hours a day, seven days a week, to leave a message or question with the above individual. You will receive a reply during regular business hours.

SUPPLEMENTARY INFORMATION: The 15-member John Day-Snake RAC was chartered and appointed by the Secretary of the Interior. Their diverse perspectives are represented in commodity, conservation, and general interests. They provide advice to the BLM, and as needed, the U.S. Forest Service, resource managers regarding management plans and proposed resource actions on public land in central and eastern Oregon. All meetings are open to the public in their entirety. Information to be distributed to the RAC is requested before the start of each meeting.

Standing agenda items include management of energy and minerals, timber, rangeland and grazing, commercial and dispersed recreation, wildland fire and fuels, and wild horses and burros; review and/or recommendations regarding proposed actions by Vale or Prineville BLM Districts and the Wallowa-Whitman, Umatilla, Malheur, Ochoco and Deschutes National Forests; and any other business that may reasonably come before the RAC.

The Designated Federal Officer will attend the call, take minutes, and publish these minutes on the RAC web page.

All meetings are open to the public in their entirety. The public may send written comments to the RAC for consideration. Comments can be mailed to BLM Vale District; Attn. Don Gonzalez; 100 Oregon St.; Vale, Oregon 97918.

Before including your address, phone number, email address, or other personal identifying information in your comments, please be aware that your entire comment—including your personal identifying information—may be made publicly available at any time. While you can ask us in your comment to withhold your personal identifying information from public review, we cannot guarantee we will be able to do so.

Authority: 43 CFR 1784.4-2.

Don Gonzalez,
Vale District Manager.

[FR Doc. 2020-01289 Filed 1-24-20; 8:45 am]

BILLING CODE 4310-HC-P